DEPARTMENT OF THE INTERIOR

National Park Service

[NPS-WASO-VRP-REGS-NPS0034238; PPWOVPADU0, POPFR2021.XZ0000 (222); OMB Control Number 1024-0026]

Agency Information Collection Activities; Special Park Use Applications.

AGENCY: National Park Service, Interior.

ACTION: Notice of information collection; request for comment.

SUMMARY: In accordance with the Paperwork Reduction Act of 1995, we, the National Park Service (NPS) are proposing to renew an information collection.

DATES: Interested persons are invited to submit comments on or before December 27, 2022.

ADDRESSES: Send your comments on this information collection request (ICR) by mail to the NPS Information Collection Clearance Officer (ADIR-ICCO), 12201 Sunrise Valley Drive, (MS -242) Reston, VA 20191 (mail); or by email at phadrea_ponds@nps.gov (email). Please reference OMB Control Number 1024-0026 in the subject line of your comments.

FOR FURTHER INFORMATION CONTACT: To request additional information about this ICR by mail, contact Maggie Tyler, Special Park Uses Program Manager, 1849 C Street NW, Main Interior Building—Rm 2474, Washington DC 20240; or by email at Maggie_tyler@nps.gov (email); or by telephone at 202-513-7092. Please reference OMB Control Number 1024-0026 in the subject line of your comments. Individuals in the United States who are deaf, deafblind, hard of hearing, or have a speech disability may dial 711 (TTY, TDD, or TeleBraille) to access telecommunications relay services. Individuals outside the United States should use the relay services offered within their country to make international calls to the point of contact in the United States.

SUPPLEMENTARY INFORMATION: In accordance with the Paperwork Reduction Act of 1995, (PRA, 44 U.S.C. 3501 et seq.) and 5 CFR 1320.8(d)(1), all information collections require approval under the PRA.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility.

(2) The accuracy of our estimate of the burden for this collection of information, including the validity of the methodology and assumptions used.

(3) Ways to enhance the quality, utility, and clarity of the information to be collected.

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: Authorized by the National Park Service Act Organic Act, 54 U.S.C. 100101, we must preserve America's natural wonders unimpaired for future generations, while also making them available for the enjoyment of the visitor. Meeting this mandate requires that we balance preservation with use. Maintaining a good balance requires both information and limits. In accordance with regulations at 36 CFR, we issue permits for special park uses.

Special park uses cover a wide range of activities including, but not limited to special events, First Amendment activities, grazing and agricultural use, filming, still photography, construction, and vehicle access. Permits are issued for varying amounts of time based on the requested use, but generally do not exceed 5 years. A new application must be submitted in order to request the renewal of an existing permit.

The information we collect in the special use applications allows park managers to determine if the requested use is consistent with the laws and NPS regulations referenced above and with the public interest. The park manager must also determine that the requested activity will not cause unacceptable impacts to park resources and values. The information is collected using the following NPS forms:

• 10-930—Application for Special Use Permit

• 10-930c—Application for Special Use Permit—Climbing

• 10-930s—Application for Special Use Permit (short form)

• 10-931—Application for Special Use Permit—Still Photography Permit (short)

• 10-932—Application for Special Use Permit—Still Photography Permit (long)

• 10-933—Application for Special Use Permit—Vehicle/Watercraft Use

The information collected on the forms is used to evaluate requests for Special Use Permits and facilitate the permitting process. If the requested use is consistent with park regulations, the information collected is used to issue a permit.

Title of Collection: Special Park Use Applications.

OMB Control Number: 1024-0026.

Form Number: NPS Forms 10-930, 10-930c, 10-930s, 10-931, 10-932, and 10-933.

Type of Review: Extension of a currently approved collection.

Respondents/Affected Public: Individuals or households; businesses or other for-profit entities; and Federal, State, local and tribal governments.

Total Estimated Number of Annual Respondents: 96,062.

Total Estimated Number of Annual Responses: 96,062.

Estimated Completion Time per Response: Estimates vary from 15-30 minutes depending on activity.

Total Estimated Number of Annual Burden Hours: 26,843.

Respondent's Obligation: Required to obtain or retain a benefit.

Frequency of Collection: On occasion.

Total Estimated Annual Nonhour Burden Cost: $9,660,200 for application fees.

An agency may not conduct or sponsor and a person is not required to respond to a collection of information unless it displays a currently valid OMB control number.

The authority for this action is the Paperwork Reduction Act of 1995 (44 U.S.C. 3501 et seq.).

Phadrea Ponds,
Information Collection Clearance Officer, National Park Service.

[FR Doc. 2022-23517 Filed 10-27-22; 8:45 am]

BILLING CODE 4312-52-P